ENVIRONMENTAL PROTECTION AGENCY

[EPA-HQ-OECA-2006-0442; FRL-8288-6]

Agency Information Collection Activities: Submission to OMB for Review and Approval; Comment Request: NSPS for Commercial and Industrial Solid Waste Incineration Units (Renewal), EPA ICR Number 1926.04, OMB Control Number 2060-0450

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This ICR which is abstracted below, describes the nature of the information collection and its expected burden and cost.

DATES: Additional comments may be submitted on or before April 16, 2007.

ADDRESSES: Submit your comments, referencing docket ID number EPA-HQ-OECA-2006-0442, to (1) EPA online using www.regulation.gov (our preferred method) or by e-mail to docket.oeca@epa.gov, or by mail to: EPA Docket Center (EPA/DC), Environmental Protection Agency, Enforcement and Compliance Docket and Information Center, Mail Code 2201T, 1200 Pennsylvania Avenue, NW., Washington, DC 20460, and (2) OMB at: Office of Information and Regulatory Affairs, Office of Management and Budget (OMB), Attention Desk Officer for EPA, 725 17th Street, NW., Washington, DC 20503.

FOR FURTHER INFORMATION CONTACT: With questions about this ICR, contact Zofia Kosim, Air Enforcement Division, Office of Civil Enforcement, Mail Code 2242A, Environmental Protection Agency, 1200 Pennsylvania Avenue, NW., Washington, DC 20460; telephone number: (202) 564-8733; fax number: (202) 564-0068; e-mail address: kosim.zofia@epa.gov. Refer to EPA ICR Number 1926.04.

SUPPLEMENTARY INFORMATION: EPA has submitted the following ICR to OMB for review and approval according to the procedures prescribed in 5 CFR 1320.12. On June 21, 2006, (71 FR 35652), Agency Information Collection Activities: Request for Comments on Thirty Two Proposed Information Collection Requests, EPA sought comments on this ICR pursuant to 5 CFR 1320.8(d). EPA received no comments.

EPA has established a public docket for this ICR under Docket ID No. OECA-2006-0442, which is available for public viewing on line at http://www.regulations.gov in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1927.

Use EPA's electronic docket and comments system at http://www.regulations.gov to submit or view public comments, access the index listing of the contents of the public docket, and to access those documents in the public docket that are available electronically. Once in the system, select “search,” then key in the docket ID number identified above. Please note that EPA's policy that public comments, whether submitted electronically or in paper, will be made available for public viewing at http://www.regulations.gov, as EPA receives them and without change, unless the comment contains copyrighted material, Confidential Business Information (CBI), or other information whose public disclosure is restricted by statute. For further information about the electronic docket, go to http://www.regulations.

Title: NSPS for Commercial and Industrial Solid Waste Incineration Units (Renewal).

ICR Numbers: EPA ICR Number 1926.04, OMB Control Number 2060-0450.

ICR Status: This is a request to renew an existing approved collection that is scheduled to expire on March 31, 2007. Under the OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The Environmental Protection Agency (EPA) is required under section 111 of the Clean Air Act, as amended, to collect data. The information will be used by Agency enforcement personnel to (1) identify existing sources subject to these standards; (2) ensure that Best Demonstrated Technology is being properly applied; and (3) ensure that the emission control device is being properly operated and maintained on a continuous basis. In addition, records and reports are necessary to enable the EPA to identify those site remediation facilities that may not be in compliance with these standards. Based on reported information, the EPA can decide which facilities should be inspected and what records or processes should be inspected at the facilities. The records that site remediation facilities maintain would indicate to the EPA whether the personnel are operating and maintaining control equipment properly. The type of data required is principally emissions data (through parametric monitoring) and would not be confidential. If any information is submitted to the EPA for which a claim of confidentiality is made, the information would be safeguarded according to the Agency policies set forth in 40 CFR, chapter 1, part 2, subpart B.

An agency may not conduct or sponsor, and a person is not required to respond to, a collection of information unless it displays a currently valid OMB control number. The OMB control numbers for EPA's regulations are listed in 40 CFR part 9. The Federal Register document required under 5 CFR 1320.8(d), soliciting comments on this collection of information was published on June 21, 2006. No comments were received.

Burden Statement: The annual public reporting and recordkeeping burden for this collection of information is estimated to average 250 hours per response. Burdens means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Commercial and Industrial Solid Waste Incineration Units.

Estimated Number of Respondents: 31.

Frequency of Response: Initial, on occasion, semiannual, annual.

Estimated Total Annual Hour Burden: 11,246.

Estimated Total Annual Cost: $1,029,920 which includes $2,240 Annualized Capital Start up Costs, $6,330 Annualized Operations & Maintenance (O&M), and $1,021,350 Annualized Labor Costs.

Changes in the Estimates: There is a decrease in cost from the most recently approved ICR due to the revised number of sources. There is also an overall reduction in burden because the estimated growth rate for the industry was reduced from six to one per year. For the same reason, the capital startup costs are lower.

Dated: March 8, 2007.
Oscar Morales,
Director, Collection Strategies Division.

[FR Doc. E7-4855 Filed 3-15-07; 8:45 am]

BILLING CODE 6560-50-P